NUCLEAR REGULATORY COMMISSION

[Docket No. 50-295, 50-304; NRC-2015-0082]

Zion Solutions, LLC; Zion Nuclear Power Station, Units 1 and 2

AGENCY: Nuclear Regulatory Commission.

ACTION: Final environmental assessment and finding of no significant impact; issuance.

SUMMARY: The U.S. Nuclear Regulatory Commission (NRC) is considering an amendment to nuclear reactor licenses DPR-39 and DPR-48 to add a license condition that reflects the NRC's approval of the license termination plan (LTP) and provides criteria for when NRC approval is needed for LTP changes. The NRC has prepared a final environmental assessment (EA) and finding of no significant impact (FONSI) for this licensing action.

DATES: The final EA and FONSI referenced in this document are available on June 25, 2018.

ADDRESSES: Please refer to Docket ID NRC-2015-0082 when contacting the NRC about the availability of information regarding this document. You may obtain publicly-available information related to this document using any of the following methods:

• Federal Rulemaking Website: Go to http://www.regulations.gov and search for Docket ID NRC-2015-0082. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jessie Muir Quintero, U.S. Nuclear Regulatory Commission, Washington, DC 20555-0001; telephone: 301-415-7476, email: Jessie.Quintero@nrc.gov.

SUPPLEMENTARY INFORMATION:

I. Introduction

In December 2014, ZionSolutions, LLC (ZS, the licensee) submitted a license amendment request, which included the LTP for Zion Nuclear Power Station, Units 1 and 2 (ZNPS). The LTP was updated by ZS twice, in June 2017 and February 2018. The NRC is considering amending licenses DPR-39 and DPR-48 to add a license condition that reflects the NRC's approval of the LTP and provides criteria for when NRC approval is need for LTP changes. As required by part 51 of Title 10 of the Code of Federal Regulations (10 CFR), “Environmental Protection Regulations for Domestic Licensing and Related Regulatory Functions,” the NRC prepared a final EA. Based on the results of the final EA, described as follows, the NRC has determined not to prepare an environmental impact statement (EIS) for the amendment, and is issuing a FONSI.

II. Environmental Assessment

Description of the Proposed Action

The proposed action is the NRC's review and approval of the ZNPS LTP. In its license amendment request, ZS requested amendment of the ZNPS licenses to add license conditions (1) reflecting the NRC staff's approval of the LTP and (2) providing criteria for when NRC approval is needed for LTP changes. If the NRC approves the LTP, the approval will be issued in the form of an amendment to the ZNPS licenses to add the requested license conditions.

The LTP describes the process the licensee will use to meet the requirements for terminating the operating licenses and to release the site for unrestricted use. The LTP outlines the remaining decommissioning and dismantling activities.

Need for the Proposed Action

The purpose of and need for the proposed action is to allow for the completion of decommissioning of the ZNPS site by the licensee, the termination of the ZNPS license operating licenses by the NRC, and the subsequent release of the ZNPS site for unrestricted use. The NRC will terminate the licenses if it determines that the site meets the performance-based criteria for unrestricted site release, in accordance with 10 CFR 20.1402, and that the facility has been dismantled in accordance with the LTP.

Environmental Impacts of the Proposed Action

The NRC assessed the environmental impacts of the license termination activities and remaining decommissioning activities and determined there would be no significant impact to the quality of the human environment.

During its review of the ZNPS LTP, the NRC concluded the impacts for most resource areas—land use, water resources, air quality, ecology, socioeconomics, historic and cultural resources, aesthetics, noise, and transportation—were still bounded by the previously issued Decommissioning Generic Environmental Impact Statement (GEIS). Therefore, the NRC does not expect impacts beyond those discussed in the GEIS, which concluded that the impact level for these issues was SMALL.

In the EA, the NRC evaluated the potential site-specific environmental impacts of the remaining decommissioning and license termination activities on climate change, public and occupational health, environmental justice, and waste management and did not identify any significant impacts. For protected species, the NRC determined that the proposed action may affect but not likely to adversely affect the rufa red knot (Calidris canutus rufa), the piping plover (Charadrius melodius), and the northern long-eared bat (Myotis septentrionalis). The final EA was updated to indicate that the proposed action would not adversely modify the designated critical habitat for the piping plover.

Environmental Impacts of the Alternatives to the Proposed Action

As an alternative to the proposed action, the NRC staff considered denial of the proposed action (i.e., the “no-action” alternative). Under the no-action alternative, the NRC would not approve the LTP or the license amendment request because regulatory requirements have not been met. Consequently, the ZNPS licenses would not be terminated, decommissioning and other onsite maintenance and operational activities involving the storage of spent nuclear fuel would continue, and the ZNPS site would not be released for unrestricted use. If the NRC was unable to approve the LTP because the regulatory requirements were not met, then the licensee would have to take the necessary actions to ensure the regulations are met.

Agencies and Persons Consulted

On April 2, 2018, the NRC staff sent a copy of the draft EA to the Illinois Emergency Management Agency (IEMA) for review and comment. The IEMA responded on May 03, 2018, with several comments on the draft EA that were addressed in the final EA.

The NRC consulted with the U.S. Fish and Wildlife Service (FWS) on listed protected species at the ZNPS site. On April 5, 2018, the NRC requested FWS review and concurrence with the NRC's determination that the proposed action may affect, but is not likely to adversely affect three federally listed species. FWS concurred with the NRC's determination on May 31, 2018. In its letter, the FWS determined that the analysis of the piping plover in the EA was sufficient to conclude that the proposed action would not adversely modify the designated critical habitat for the piping plover. The NRC revised the EA to state that the designated critical habitat for the plover was present within the action area and that there would not be adverse modifications of designated critical habitat for the piping plover.

III. Finding of No Significant Impact

Based on its review of the proposed action, and in accordance with the requirements in 10 CFR part 51, the NRC staff has determined that pursuant to 10 CFR 51.31, preparation of an EIS is not required for the proposed action and, pursuant to 10 CFR 51.32, a FONSI is appropriate.

On the basis of the final EA, the NRC concludes that the proposed action will not have a significant effect on the quality of the human environment. Accordingly, the NRC has determined not to prepare an EIS for the proposed action.

IV. Availability of Documents

The documents identified in the following table are available to interested persons through one or more of the following methods, as indicated.

Documents | ADAMS accession Nos./web links
License Amendment Request, December 19, 2014 | ML15005A336
LTP Revision 1, July 20, 2017 | ML17215A095
LTP Revision 2, February 7, 2018 | ML18052A857
Final EA | ML18172A176
NUREG-0586, Supplement 1, Decommissioning GEIS | https://www.nrc.gov/reading-rm/doc-collections/nuregs/staff/sr0586/
Transmittal of Draft EA to IEMA, April 2, 2018 | ML18095A987
IEMA Comments on Draft EA, May 3, 2018 | ML18124A018
Transmittal of Draft EA to FWS, April 5, 2018 | ML18108A345
FWS Concurrence on NRC Determination, May 31, 2018 | ML18157A315

Dated at Rockville, Maryland, this 26th day of June 2018.
For the Nuclear Regulatory Commission.
Craig G. Erlanger,
Director, Division of Fuel Cycle Safety, Safeguards and Environmental Review, Office of Nuclear Material Safety and Safeguards.

[FR Doc. 2018-14004 Filed 6-28-18; 8:45 am]

BILLING CODE 7590-01-P